DEPARTMENT OF DEFENSE

GENERAL SERVICES ADMINISTRATION

NATIONAL AERONAUTICS AND SPACE ADMINISTRATION

[OMB Control No. 9000-0027; Docket No. 2018-0003; Sequence No. 25]

Information Collection; Value Engineering Requirements

AGENCY: Department of Defense (DOD), General Services Administration (GSA), and National Aeronautics and Space Administration (NASA).

ACTION: Notice and request for comments.

SUMMARY: Under the provisions of the Paperwork Reduction Act and the Office of Management and Budget (OMB) regulations, the Federal Acquisition Regulation (FAR) Council invites the public to comment on a renewal of an approved information collection requirement concerning value engineering requirements.

DATES: Submit comments on or before February 11, 2019.

ADDRESSES: The FAR Council invites interested persons to submit comments on this information collection by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0027, Value Engineering Requirements.

Instructions: All items submitted must cite “Information Collection 9000-0027, Value Engineering Requirements.” Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Marilyn E. Chambers, Procurement Analyst, 202-285-7380, or marilyn.chambers@gsa.gov.

SUPPLEMENTARY INFORMATION:

A. Purpose

Per Federal Acquisition Regulation Part 48, value engineering is the technique by which contractors (1) voluntarily suggest methods for performing more economically and share in any resulting savings, or (2) are required to establish a program to identify and submit to the Government methods for performing more economically. These recommendations are submitted to the Government as value engineering change proposals (VECP's) and they must include specific information. This information is needed to enable the Government to evaluate the VECP and, if accepted, to arrange for an equitable sharing plan.

B. Annual Reporting Burden

Respondents: 794.

Responses per Respondent: 2.

Annual Responses: 1,588.

Hours per Response: 15.

Total Burden Hours: 23,820.

Affected Public: Business or other for-profit entities.

Reporting Frequency: On occasion.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW, Washington, DC 20405, telephone 202-501-4755.

Please cite OMB Control No. 9000-0027, Value Engineering Requirements, in all correspondence.

Dated: December 10, 2018.
Janet Fry,
Director, Federal Acquisition Policy Division, Office of Governmentwide Acquisition Policy, Office of Acquisition Policy, Office of Governmentwide Policy.

[FR Doc. 2018-27019 Filed 12-12-18; 8:45 am]

BILLING CODE 6820-EP-P